OFFICE OF THE UNITED STATES TRADE REPRESENTATIVE

Trade Policy Staff Committee; Extension of Deadline for the Submission of Responses to Requests for the Exclusion of Specific Products From Any Action Under Section 203 of the Trade Act of 1974 With Regard to Imports of Certain Steel and Modifications to the Earlier Instructions for the Submission of Written Comments

AGENCY: Office of the United States Trade Representative.

ACTION: Extension of deadline for submission of responses and modifications to the earlier instructions for the submission of written comments.

SUMMARY: The Trade Policy Staff Committee (“TPSC”) is extending the deadline, from November 27, 2001, to December 5, 2001, for the submission of responses to requests for the exclusion of specific products from any action under section 203 of the Trade Act of 1974, as amended, (19 U.S.C. 2253) (“Trade Act”) with regard to imports of certain steel. In light of recent security measures, the TPSC is also modifying the instructions for the submission of written comments in the TPSC Notice and Request for Comments of October 26, 2001. See 66 FR 54321 (“October 26th Notice”).

DATES: The deadline for responses to requests for the exclusion of specific products from any action under section 203 of the Trade Act of 1974 with regard to imports of certain steel is being extended to December 5, 2001. Other dates in the October 26th Notice remain unchanged. Modifications to the instructions for submission of written comments are applicable to all documents related to action under section 203 of the Trade Act with regard to imports of certain steel that are submitted to the TPSC after publication of this notice in the Federal Register.

FOR FURTHER INFORMATION CONTACT: Office of Industry, Office of the United States Trade Representative, 600 17th Street, NW., Room 501, Washington, DC 20508. Telephone (202) 395-5656.

SUPPLEMENTARY INFORMATION: On October 26, 2001, the TPSC published in the Federal Register a Notice and Request for Comments on what action the President should take under section 203 of the Trade Act to facilitate efforts by the domestic industries producing certain steel products to make a positive adjustment to import competition and provide greater economic and social benefits than costs. See 66 FR 54321. According to the October 26th Notice, the deadline for the submission of requests for the exclusion of specific products from any action under section 203(a) of the Trade Act was November 13, 2001, and the deadline for the submission of responses to such requests was November 27, 2001. The TPSC is extending the November 27, 2001, deadline until not later than December 5, 2001. Parties should refer to the October 26th Notice, and additional information provided below, for instructions for the submission of written comments.

The October 26th Notice contained instructions for the submission of written comments. In light of recently implemented security measures, U.S. mail submissions will not be received in time for consideration. To improve the receipt of submissions by electronic mail, the TPSC is making the following modifications to the instructions:

• The October 26th Notice allowed interested persons filing written comments, requests, or other information to provide the information by electronic mail or by U.S. mail. It instructed interested persons submitting documents by U.S. mail to include twenty (20) copies. The TPSC now requests only one (1) copy of any documents submitted by U.S. mail. Interested persons submitting documents by U.S. mail should also make arrangements for the transmission of an electronic copy of the document by electronic mail in accordance with the instructions in the October 26th Notice, as modified below. Although the TPSC prefers the use of electronic mail, a copy of any documents submitted by U.S. mail may also be transmitted to the TPSC by fax at (202) 395-9674.

• The October 26th Notice indicated that interested persons may file documents in any commercial word processing or spreadsheet format. The TPSC strongly encourages the submission of documents in Adobe PDF format, as attachments to an electronic mail message.

• The October 26th Notice instructed that for any document containing business confidential information submitted by electronic transmission, the file name of the business confidential version should begin with the characters “BC-”, and the file name of the public version should begin with the characters “P-”. The TPSC further requests that the characters “P-” or “BC-” be followed by the name of the submitter. If a submission represents the views of multiple persons, only one needs to be listed in the file name. If the same person or persons has submitted multiple documents, each should be sequentially numbered, with the number following the name of the submitter in the file name. (E.g., the sixth public submission by Smith and Jones would be labeled “P-Smith-6''.)

• Interested persons who make submissions by electronic mail should not provide separate cover letters. Any information that might appear in a cover letter should be included in the submission itself, or in the electronic mail message used to transmit the submission. To the extent possible, any attachments to the submission should be aggregated into a single file with the submission itself, and not transmitted separately.

These modifications are applicable to all documents related to action under section 203 of the Trade Act with regard to imports of certain steel that are submitted to the TPSC after publication of this notice in the Federal Register.

Carmen Suro-Bredie,
Chair, Trade Policy Staff Committee.

[FR Doc. 01-29776 Filed 11-27-01; 3:07 pm]

BILLING CODE 3190-01-P